DEPARTMENT OF ENERGY

Energy Information Administration

Agency Information Collection Activities: Proposed Collection; Comment Request

AGENCY: Energy Information Administration (EIA), Department of Energy (DOE).

ACTION: Agency information collection activities: Proposed collection; Comment request.

SUMMARY: The EIA is soliciting comments on the proposed revisions and three-year extension to the Forms:

EIA-411, “Coordinated Bulk Power Supply Program Report,”

EIA-826, “Monthly Electric Sales and Revenue with State Distributions Report,”

EIA-860, “Annual Electric Generator Report,”

EIA-860M, “Monthly Update to the Annual Electric Generator Report,”

EIA-861, “Annual Electric Power Industry Report,” and

EIA-923, “Power Plant Operations Report.”

DATES: Comments must be filed by December 14, 2009. If you anticipate difficulty in submitting comments within that period, contact the person listed below as soon as possible.

ADDRESSES: Send comments to Ms. Elizabeth Panarelli. To ensure receipt of the comments by the due date, submission by FAX (202-287-1938) or an e-mail to Ms. Panarelli at electricity2011@eia.doe.gov is recommended. The mailing address is Energy Information Administration, Electric Power Division, EI-53, Forrestal Building, U.S. Department of Energy, Washington, DC 20585. Alternatively, Ms. Panarelli may be contacted by telephone at 202-586-2234.

FOR FURTHER INFORMATION CONTACT: Requests for additional information or copies of any forms and instructions should be directed to Ms. Elizabeth Panarelli at the address listed above. To review the proposed forms and instructions, please visit: http://www.eia.doe.gov/cneaf/electricity/page/fednotice/elect_2011.html.

SUPPLEMENTARY INFORMATION:

I. Background

II. Current Actions

III. Request for Comments

I. Background

The Federal Energy Administration Act of 1974, specifically 15 U.S.C. 790a, and the DOE Organization Act, specifically 42 U.S.C. 7135, require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

The EIA collects information about the electric power industry for use by government and private sector analysts. The survey information is disseminated in a variety of electronic products and files. For details on the EIA electric power information program, please visit the electricity page of the EIA Internet site at http://www.eia.doe.gov/fuelelectric.html.

The EIA has completed an extensive review and update of the electric power survey collection instruments. The result of the update reflects input from the electric power industry, other industry users of the data, government agencies, consumer groups, and private sector analysts. The form changes are explained below.

Please refer to the proposed forms and instructions for more information about the purpose, who must report, when to report, where to submit, the elements to be reported, detailed instructions, provisions for confidentiality, and uses (including possible non-statistical uses) of the information. For instructions on obtaining materials, see the FOR FURTHER INFORMATION CONTACT section.

II. Current Actions

Specifically, the EIA is soliciting comments on the following revisions to and extension of existing forms, including:

Form EIA-411, “Coordinated Bulk Power Supply Program Report”

Change form name to “Coordinated Bulk Power Supply & Demand Program Report;” return to collecting projected reliability data on a 10-year basis as opposed to 5 years; change “Council” to “Regional Entity;” and add submission of Sub-regional level breakout of data.

Adopt the current NERC 2009 Schedule 3 for summer and winter aggregated demand and supply information. Changes are as follows: Demand category additions include “Demand Response,” “Critical Peak-Pricing with Control,” and “Load as a Capacity Resource;” supply category additions include “Existing-Certain,” “Existing-Other,” “Existing-Inoperable,” “Future-Planned,” “Future-Other,” and “Conceptual” categories; break out capacity categories of Wind, Solar, Hydro, and Biomass to cover both expected on-peak and derated values; and expand coverage of types of reserve margin calculations. Delete Schedule 4—Regional Imports and Export detail. (Transaction summaries are added to Schedule 3). For Schedule 5, permit the submission of Computer-Aided Design and/or Computer-Aided Design and Drafting (CAD/CADD) file types. Schedule 6 changes include: Part A will now collect the following Existing Transmission Circuit Miles values: AC (kV)—115, 138, 161, 230, 345, 500, 765; DC (kV) 100-299, 300, 400, 450, 500; Part B will now collect Projected Transmission Additions starting at 100kV and information on the reasons why Projected Transmission Additions are being added; and change reporting of selected transmission outage data to a mandatory basis on Schedule 7.

Form EIA-826, “Monthly Electric Sales and Revenue With State Distributions Report”

Schedule 2 Part B. Sales to Ultimate Customers—Energy-Only Service: Collect the names of the companies that deliver electricity on behalf of power marketers and retail service providers. Schedule 3 Part A. Green Pricing: Collect, by State and sector, the number of green pricing customers, green pricing sales and revenue as well as green pricing sales and revenue from Renewable Energy Certificates (REC).

Schedule 3 Part B. Net Metering: Collect, by State and sector, the number of net metering customers, net metering capacity and technology type, as well as energy displaced by net metered generating facilities. Schedule 3 Part C. Advanced Metering: Collect, by State and sector, the number of Advanced Meter Reading (AMR) and Advanced Metering Infrastructure (AMI) meters installed, as well as the energy served through AMI meters.

Form EIA-860, “Annual Electric Generator Report”

Change the collection of planning horizon from 5 years to 10 years. Schedule 3 Generator Information: Make revisions (prime movers and energy sources) to distinguish the reporting of energy storage technologies; make revisions (prime movers and energy sources) to distinguish the reporting of hydrokinetic technologies and related information; add geothermal to the technologies for which tested heat rate data are required; add the data element, “Annual Average Operating Efficiency,” for solar photovoltaic, wind, and hydroelectric generators to the data collection; and replace the questions on reactive power output (MVAR) with new questions related to reactive power output. Schedule 6 Part F. Cooling System Information: Add new codes to capture additional cooling system types, source of cooling water and type of cooling water; add a question to collect the percentage of cooling load served by dry cooling components (for hybrid cooling systems); and expand the survey frame for cooling system data collection to include all thermoelectric plants greater than or equal to 100 MW in size.

Form EIA-860M, “Monthly Update to the Annual Electric Generator Report”

Schedule 2 (Updates To Proposed New Generators) and Schedule 3 (Updates To Proposed Changes To Existing Generators): Make revisions (prime movers and energy sources) to distinguish the reporting of energy storage technologies; and make revisions (prime movers and energy sources) to distinguish the reporting of hydrokinetic technologies and related information.

Form EIA-861, “Annual Electric Power Industry Report”

Schedule 2 Part C. Green Pricing: Add, by State and sector, the green pricing sales and revenue from Renewable Energy Certificates (REC). Schedule 2 Part D. Net Metering: By State and sector, add the capacity and technology type for net metering generating facilities. Schedule 6 Demand-Side Management Information: Collect Demand-Side Management (DSM) information from all respondents, regardless of size; and expand collection of DSM data to include State- and sector-level breakdown of costs, energy efficiency, and load management effects. Schedule 7 Distributed and Dispersed Generation: Collect the capacity for distributed and dispersed generating technologies by State (replaces the percentage for each technology); and add “Photovoltaic (PV)” and “Storage” as choices for reporting distributed and dispersed generation types.

Form EIA-923, “Power Plant Operations Report”

Schedule 2. Cost and Quality of Fuel Receipts, Plant-Level: Collect receipts of uranium ownership transfers and enrichment services. Schedule 7. Total Plant Efficiency for Combined Heat and Power Plants (CHP): Add the annual average total CHP efficiency (i.e., the energy output's percentage of the energy input) from CHP plants only. Schedule 8D. Cooling System Information, Annual Operations: Add a column to collect amount of water diverted; and expand directions to include definitions of diversion, withdrawal, consumption, and discharge. Expand respondent pool to include any thermoelectric power plant greater than or equal to 100 MW.

III. Request for Comments

Prospective respondents and other interested parties should comment on the actions discussed in Item II. The following guidelines are provided to assist in the preparation of comments. Please indicate to which form(s) your comments apply.

As a Potential Respondent to the Request for Information

A. Is the proposed collection of information necessary for the proper performance of the functions of the agency and does the information have practical utility?

B. What actions could be taken to help ensure and maximize the quality, objectivity, utility, and integrity of the information collected?

C. Are the instructions and definitions clear and sufficient? If not, which instructions need clarification?

D. Can the information be submitted by the due dates?

E. Public reporting burden for this collection is estimated to average: Form EIA-411, “Bulk Power Supply Program Report,” 15.9 hours per response (Annual); Form EIA-826, “Monthly Electric Sales and Revenue with State Distributions Report,” 1.6 hours per response; Form EIA-860, “Annual Electric Generator Report,” 6.75 hours per response for respondents without environmental information and 12.5 hours per response for respondents with environmental information; Form EIA-860M, “Monthly Update to the Annual Electric Generator Report,” 0.3 hours per response; Form EIA-861, “Annual Electric Power Industry Report,” 9.0 hours per response; Form EIA-923, “Power Plant Operations Report,” 3.2 hours per response (Monthly for a sample, Annually for plants not in the sample). The estimated burden includes the total time necessary to provide the requested information. In your opinion, how accurate are these estimates?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the Agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, P.L. 93-275, codified at 15 U.S.C. 772(b).

Issued in Washington, DC on October 8, 2009.
Renee Miller,
Director, Forms Clearance and Information, Quality Division, Statistics and Methods Group, Energy Information Administration.

[FR Doc. E9-24777 Filed 10-14-09; 8:45 am]

BILLING CODE 6450-01-P